DEPARTMENT OF HOMELAND SECURITY

U.S. Citizenship and Immigration Services

[CIS No. 2404-07; DHS Docket No. USCIS-2007-0002]

RIN 1615-ZA46

Extension of the Designation of Sudan for Temporary Protected Status; Automatic Extension of Employment Authorization Documentation for Sudanese TPS Beneficiaries

AGENCY: U.S. Citizenship and Immigration Services, DHS.

ACTION: Notice of extension of temporary protected status designation of Sudan.

SUMMARY: This Notice alerts the public that the designation of Sudan for Temporary Protected Status (TPS) has been extended for 18 months to November 2, 2008, from its current expiration date of May 2, 2007. This Notice also sets forth procedures necessary for nationals of Sudan (or aliens having no nationality who last habitually resided in Sudan) with TPS to re-register and to apply for an extension of their Employment Authorization Documents (EADs) for the additional 18-month period. Re-registration is limited to persons who have previously registered for TPS under the designation of Sudan and whose application has been granted or remains pending. Certain nationals of Sudan (or aliens having no nationality who last habitually resided in Sudan) who have not previously applied for TPS may be eligible to apply under the late initial registration provisions.

Given the timeframes involved with processing TPS re-registrants, the Department of Homeland Security (DHS) recognizes that re-registrants may not receive a new EAD until after their current EAD expires on May 2, 2007. Accordingly, this Notice automatically extends the validity of EADs issued under the TPS designation of Sudan for six months, through November 2, 2007, and explains how TPS beneficiaries and their employers may determine which EADs are automatically extended. New EADs with the November 2, 2008 expiration date will be issued to eligible TPS beneficiaries who timely re-register and apply for an EAD.

DATES: The extension of the TPS designation of Sudan is effective May 3, 2007, and will remain in effect until 11:59 p.m. on November 2, 2008. The 60-day re-registration period begins March 8, 2007, and will remain in effect until May 7, 2007. To facilitate processing of their applications, applicants are strongly encouraged to file as soon as possible after the start of the 60-day re-registration period beginning on March 8, 2007.

FOR FURTHER INFORMATION CONTACT: Matthew Horner, Status and Family Branch, Office of Service Center Operations, U.S. Citizenship and Immigration Services, Department of Homeland Security, 20 Massachusetts Avenue, NW., 2nd Floor, Washington, DC 20529, telephone (202) 272-1505. This is not a toll-free call. Further information will also be available at local USCIS offices upon publication of this Notice and on the USCIS Web site at http://uscis.gov.

SUPPLEMENTARY INFORMATION:

Abbreviations and Terms Used in This Document

Act—Immigration and Nationality Act

ASC—USCIS Application Support Center

DHS—Department of Homeland Security

EAD—Employment Authorization Document

Secretary—Secretary of Homeland Security

SAF—Sudanese Armed Forces

SPLM/A—Sudan People's Liberation Movement/Army

USCIS—U.S. Citizenship and Immigration Services

UNHCR—United Nations High Commissioner for Refugees

What authority does the Secretary of Homeland Security have to extend the designation of Sudan for TPS?

Section 244(b)(1) of the Immigration and Nationality Act (Act), 8 U.S.C. 1254a(b)(1), authorizes the Secretary of Homeland Security (Secretary), after consultation with appropriate agencies of the Government, to designate a foreign state (or part thereof) for TPS. The Secretary may then grant TPS to eligible nationals of that foreign state (or aliens having no nationality who last habitually resided in that state). 8 U.S.C. 1254a(a)(1)(A).

At least 60 days before the expiration of the TPS designation, or any extension thereof, the Secretary, after consultations with appropriate agencies of the Government, must review the conditions in a foreign state designated for TPS to determine whether the conditions for the TPS designation continue to be met and, if so, the length of an extension. 8 U.S.C. 1254a(b)(3)(A), (C). If the Secretary determines that the foreign state no longer meets the conditions for the TPS designation, he must terminate the designation. 8 U.S.C. 1254a(b)(3)(B).

Why did the Secretary decide to extend the TPS designation of Sudan?

On November 4, 1997, the Attorney General published a Notice in the Federal Register at 62 FR 59737 designating Sudan for TPS based on an ongoing armed conflict and extraordinary and temporary conditions within that country. The Attorney General extended this designation the next year, determining that the conditions warranting such designation continued to be met. 63 FR 59337 (Nov. 3, 1998). On November 9, 1999, the Attorney General extended and re-designated Sudan by publishing a Notice in the Federal Register, based upon the ongoing armed conflict and extraordinary and temporary conditions. 64 FR 61128. Subsequent to that date, the Attorney General and the Secretary of Homeland Security have extended the TPS designation of Sudan four times, determining in each instance that the conditions warranting the designation continued to be met. 65 FR 67407 (Nov. 9, 2000); 66 FR 46031 (Aug. 31, 2001); 67 FR 55877 (Aug. 30, 2002); 68 FR 52410 (Sept. 3, 2003). On October 7, 2004, the Secretary extended and re-designated Sudan for TPS due to the ongoing armed conflict in the Darfur region and the extraordinary and temporary conditions resulting from the ongoing conflict. 69 FR 60168. The most recent extension of Sudan for TPS became effective on November 2, 2005, and is due to expire at 11:59 p.m. May 2, 2007. 70 FR 52429 (Sept. 2, 2005).

Over the past year, DHS and the Department of State have continued to review conditions in Sudan. Based on this review, the Secretary has concluded that an 18-month extension is warranted because the armed conflict and extraordinary and temporary conditions that prompted redesignation of Sudan for TPS in October 2004 persist. Further, the Secretary has determined that it is not contrary to the national interest of the United States to permit aliens who are eligible for TPS based on the designation of Sudan to remain temporarily in the United States. See 8 U.S.C. 1254a(b)(1)(C).

Despite the signing of a comprehensive peace agreement between the government of Sudan and the Sudan People's Liberation Movement/Army (SPLM/A), conditions in Sudan continue to be volatile and dangerous in large parts of Western and Southern Sudan. Sporadic violence continues in Southern Sudan, with fighting among armed elements associated with the Sudanese Armed Forces (SAF), the SAF itself, and the SPLM/A. The humanitarian crisis in the Darfur region of Western Sudan continues to cause concern, with an estimated 250,000 people displaced since the beginning of 2006, and armed clashes have intensified since September 2006. In November 2006, 10,000 civilians were displaced during joint government/Janjaweed attacks on 12 villages in the Jebel Mara region of Darfur and the deliberate targeting of civilians continues. Since the beginning of the conflict, approximately 2 million people have been forced to leave their homes and live in displaced person camps while hundreds of thousands have been killed.

There have also been incidents of violence and instability in southern Sudan. It is estimated that 250 civilian and military deaths resulted from fighting that erupted between the SPLA and a faction of the South Sudan Defense Forces and that an additional 300-400 civilians were wounded. Some of the violence was attributed to the forces of the Ugandan rebel Lord's Resistance Army, which, despite having signed a cessation of hostilities agreement with the government of Uganda on August 26, 2006, was reported by the former United Nations Secretary-General to continue to pose a military threat. The Government of Southern Sudan has since stepped up efforts to restore security in the region.

Access to humanitarian relief is limited by security concerns and Government of Sudan-imposed constraints on relief organizations. While the Office of the United Nations High Commissioner for Refugees (UNHCR) facilitated the return of approximately 91,000 southern Sudanese refugees and displaced persons to Sudan through direct repatriation assistance and reintegration programs in 2006, return is not risk free; civilians have continued to be victims of episodic violence, and UNHCR has not yet moved into a phase of actively promoting refugee returns.

Based upon this review, the Secretary finds, after consultation with the appropriate Government agencies, that the conditions that prompted the designation of Sudan for TPS continue to be met. See 8 U.S.C. 1254a(b)(3)(A). The armed conflict is ongoing and there are extraordinary and temporary conditions in Sudan that prevent aliens who are nationals of Sudan (or aliens having no nationality who last habitually resided in Sudan) from returning in safety. See 8 U.S.C. 1254a(b)(1)(A), (C). The Secretary also finds that it is not contrary to the national interest of the United States to permit aliens who meet the eligibility requirements of TPS to remain in the United States temporarily. See 8 U.S.C. 1254a(b)(1)(C). On the basis of these findings, the Secretary concludes that the designation of Sudan for TPS should be extended for an additional 18-month period. See 8 U.S.C. 1254a(b)(3)(C).

Notice of Extension of the TPS Designation of Sudan

By the authority vested in me as Secretary of Homeland Security under section 244 of the Act, 8 U.S.C. 1254a, I have determined, after consultation with the appropriate Government agencies, that the conditions that prompted redesignation of Sudan for TPS in October 2004 continue to be met. See 8 U.S.C 1254a(b)(3)(A), (C). There are approximately 520 nationals of Sudan (or aliens having no nationality who last habitually resided in Sudan) who have been granted TPS and who may be eligible for re-registration. Accordingly, I am extending the TPS designation of Sudan for 18 months from May 3, 2007 to November 2, 2008. For instructions on this extension, please refer to the following attachments, which include filing and eligibility requirements for Temporary Protected Status and Employment Authorization Documents.

Dated: March 1, 2007.
Michael Chertoff,
Secretary.

Temporary Protected Status Filing Guidelines

If I currently have benefits through the TPS designation of Sudan for TPS and would like to maintain them, do I need re-register for TPS?

Yes. If you already have received TPS benefits through the designation of Sudan for TPS, your benefits will expire at 11:59 p.m. on May 2, 2007. All TPS beneficiaries must comply with the re-registration requirements described in this Notice in order to maintain TPS benefits through November 2, 2008. TPS benefits include temporary protection against removal from the United States and employment authorization during the TPS designation period. 8 U.S.C. 1254a(a)(1). Failure to re-register without good cause will result in the withdrawal of your temporary protected status and possibly your removal from the United States. 8 U.S.C. 1254a(c)(3)(C).

If I am currently registered for TPS or have a pending application for TPS, how do I re-register to renew my benefits for the duration of the extension period?

Please submit the proper forms and fees according to the Table 1 below. Aliens who have previously registered for TPS but whose applications remain pending should follow these instructions if they wish to renew their TPS benefits. All TPS re-registration applications submitted without the required fees will be returned to the applicant. All fee waiver requests should be filed in accordance with 8 CFR 244.20. If you received an EAD during the most recent registration period, please submit a photocopy of the front and back of your EAD.

Table 1.—Application Forms and Application Fees
If | And | Then
You are re-registering for TPS | You are applying for an extension of your EAD valid through November 2, 2008 | You must complete and file the Form I-765, Application for Employment Authorization, with the $180 fee or a fee waiver request. You must also submit Form I-821, Application for Temporary Protected Status, with no fee.
You are re-registering for TPS | You are NOT applying for renewal of your EAD | You must complete and file the Form I-765 with no fee and Form I-821 with no fee Note: DO NOT check any box for the question “I am applying for” listed on Form I-765 as you are NOT requesting an EAD benefit.
You are applying for TPS as a late initial registrant and you are between the ages of 14 and 65 (inclusive) | You are applying for a TPS-related EAD | You must complete and file Form I-821 with the $50 fee or fee waiver request and Form I-765 with the $180 fee or a fee waiver request.
You are applying for TPS as a late initial registrant and are under age 14 or over age 65 | You are applying for a TPS-related EAD | You must complete and file Form I-821 with the $50 fee or fee waiver request. You must also submit Form I-765 with no fee.
You are applying for TPS as a late initial registrant, regardless of age | You are NOT applying for an EAD | You must complete and file Form I-821 with the $50 fee or fee waiver request and Form I-765 with no fee.
Your previous TPS application is still pending | You are applying to renew your temporary treatment benefits (i.e., an EAD with category “c-19” on its face) | You must complete and file the Form I-765 with the $180 fee or a fee waiver request. You must also submit Form I-821, Application for Temporary Protected Status, with no fee.

Certain applicants must also submit a Biometric Service Fee (See Table 2). The Biometric Service Fee will not be waived. 8 CFR 103.2(e)(4)(i), (iii).

Table 2.—Biometric Service Fees
If | And | Then
You are 14 years of age or older | 1. You are re-registering for TPS, or 2. You are applying for TPS under the late initial registration provisions, or 3. Your TPS application is still pending and you are applying to renew temporary treatment benefits | You must submit a Biometric Service fee of $70.
You are younger than 14 years of age | You are applying for an EAD | You must submit a Biometric Service fee of $70.

What edition of the Form I-821 should be submitted?

Only the edition of Form I-821 dated November 5, 2004, or later will be accepted. The revision date can be found in the bottom right corner of the form. The proper form can be found on the Internet at http://www.uscis.gov or by calling the USCIS forms hotline at 1-800-870-3676.

Where should an applicant submit his or her application for TPS?

Please reference table 3 below to see where to mail your specific application.

Table 3.—Application Mailing Directions
If | Then mail to | Or, for non-United States Postal Service (USPS) deliveries, mail to
You are applying for re-registration or applying to renew your temporary treatment benefits | U.S. Citizenship and Immigration Services Attn: TPS Sudan P.O. Box 8677 Chicago, IL 60680-8677 | U.S. Citizenship and Immigration Services Attn: TPS Sudan 427 S. LaSalle—3rd Floor Chicago, IL 60605-1029.
You are applying for TPS for the first time, as a late initial registrant | U.S. Citizenship and Immigration Services Attn: TPS Sudan P.O. Box 8677 Chicago, IL 60680-8677 | U.S. Citizenship and Immigration Services Attn: TPS Sudan Late Initial Registrant 427 S. LaSalle—3rd Floor, Chicago, IL 60605-1029.

Can an applicant file their application electronically?

If you are filing for re-registration and do not need to submit supporting documentation with your application, you may file your application electronically. To file your application electronically, follow directions on the USCIS Web site at: http://www.uscis.gov.

Who should submit supporting documentation?

See Table 4 below to determine if you need to submit supporting documentation.

Table 4.—Who Should Submit Supporting Documentation?
If | Then
One or more of the questions listed in Part 4, Question 2 of Form I-821 applies to you | You must submit an explanation, on a separate sheet(s) of paper, and/or additional documentation must be provided. You may NOT file electronically.
You were granted TPS by an Immigration Judge or the Board of Immigration Appeals | You must include evidence of the grant of TPS (such as an order from the Immigration Judge) with your application package. You may NOT file electronically.

What is late initial registration?

Some persons may be eligible for late initial registration under 8 CFR 244.2. In order to be eligible for late initial registration an applicant must:

(1) Be a national of Sudan (or alien who has no nationality and who last habitually resided in Sudan);

(2) Have continuously resided in the United States since October 7, 2004;

(3) Have been continuously physically present in the United States since October 7, 2004; and

(4) Be both admissible as an immigrant, except as provided under section 244(c)(2)(A) of the Act, and not ineligible under section 244(c)(2)(B) of the Act.

Additionally, the applicant must be able to demonstrate that during the initial registration period (from November 4, 1997 to November 3, 1998), during the registration period for the first re-designation (from November 9, 1999 to November 2, 2000), or during the registration period for the most recent re-designation (from October 7, 2004 to April 5, 2005), he or she:

(1) Was a nonimmigrant or had been granted voluntary departure status or any relief from removal;

(2) Had an application for change of status, adjustment of status, asylum, voluntary departure, or any relief from removal or change of status pending or subject to further review or appeal;

(3) Was a parolee or had a pending request for reparole; or

(4) Is the spouse or child of an alien currently eligible to be a TPS registrant.

An applicant for late initial registration must file an application for late registration no later than 60 days after the expiration or termination of the conditions described above. 8 CFR 244.2(g). All late initial registration applications for TPS, pursuant to the TPS designation of Sudan, should be submitted to the appropriate address in Chicago, Illinois as defined in Table 3.

Are certain aliens ineligible for TPS?

Yes. There are certain criminal and terrorism-related inadmissibility grounds that render an alien ineligible for TPS. See 8 U.S.C. 1254a(c)(2)(A)(iii). Further, aliens who have been convicted of any felony or two or more misdemeanors committed in the United States are ineligible for TPS under section 244(c)(2)(B)(i) of the Act, 8 U.S.C. 1254a(c)(2)(B)(i), as are aliens described in the bars to asylum in section 208(b)(2)(A) of the Act, 8 U.S.C. 1158(b)(2)(A). See 8 U.S.C. 1254a(c)(2)(B)(ii). An individual granted TPS will have his or her TPS withdrawn if the alien is not in fact eligible for TPS, if the alien fails to timely re-register for TPS without good cause, or if the alien fails to maintain continuous physical presence in the United States. See 8 U.S.C. 1254a(c)(3)(A)-(C).

Does TPS lead to lawful permanent residence?

No. TPS is a temporary benefit that does not lead to lawful permanent residence or confer any other immigration status. 8 U.S.C. 1254a, (f)(1), and (h). When a country's TPS designation is terminated, TPS beneficiaries will maintain the same immigration status they held prior to TPS (unless that status has since expired or been terminated), or any other status they may have acquired while registered for TPS. Accordingly, if an alien held no lawful immigration status prior to being granted TPS and did not obtain any other status during the TPS period, he or she will revert to unlawful status upon the termination of the TPS designation. Once the Secretary determines that a TPS designation should be terminated, aliens who had TPS under that designation are expected to plan for their departure from the United States.

May I apply for another immigration benefit while registered for TPS?

Yes. Registration for TPS does not prevent you from applying for non-immigrant status, filing for adjustment of status based on an immigrant petition, or applying for any other immigration benefit or protection. 8 U.S.C. 1254a(a)(5). For the purposes of change of status and adjustment of status, an alien is considered as being in, and maintaining, lawful status as a nonimmigrant during the period in which the alien is granted TPS. See 8 U.S.C. 1254a(f)(4).

How does an application for TPS affect my application for asylum or other immigration benefits?

An application for TPS does not affect an application for asylum or any other immigration benefit. Denial of an application for asylum or any other immigration benefit does not affect an applicant's TPS eligibility, although the grounds for denying one form of relief may also be grounds for denying TPS. For example, a person who has been convicted of a particularly serious crime is not eligible for asylum or TPS. See 8 U.S.C. 1158(b)(2)(A)(ii) and 8 U.S.C. 1254a(c)(2)(B)(ii).

Does this extension allow nationals of Sudan (or aliens having no nationality who last habitually resided in Sudan) who entered the United States after October 7, 2004, to file for TPS?

No. An extension of a TPS designation does not change the required dates of continuous residence and continuous physical presence in the United States. This extension does not expand TPS eligibility to those beyond the current TPS eligibility requirements of Sudan. To be eligible for benefits under this extension, nationals of Sudan (or aliens having no nationality who last habitually resided in Sudan) must have continuously resided and been continuously physically present in the United States since October 7, 2004, the date of the most recent designation of Sudan for TPS.

Employment Authorization Document Extension Guidelines

Who is eligible to receive an automatic extension of his or her EAD from May 2, 2007 to November 2, 2007?

To receive an automatic extension of an EAD, an individual must be a national of Sudan (or an alien having no nationality who last habitually resided in Sudan) who has applied for and received an EAD under the designation of Sudan for TPS and who has not had TPS withdrawn or denied. This automatic extension is limited to EADs issued on Form I-766, Employment Authorization Document, bearing an expiration date of May 2, 2007. The EAD must also be a Form I-766 bearing the notation “A-12” or “C-19” on the face of the card under “Category.”

If I am currently registered under the designation of Sudan for TPS and am re-registering for TPS, how do I receive an extension of my EAD after the automatic six-month extension?

TPS re-registrants will receive a notice in the mail with instructions to appear at a USCIS Application Support Center (ASC) for biometrics collection. When you report to the ASC, you must bring the following documents: (1) Your receipt notice for your re-registration application; (2) your ASC appointment notice; and (3) your current EAD. If no further action is required for your case, you will receive a new EAD, valid through November 2, 2008, through the mail. If your case requires further resolution, USCIS will contact you in writing to explain what additional information, if any, is necessary to resolve your case. If your application is approved, you will receive a new EAD in the mail with an expiration date of November 2, 2008.

May I request an interim EAD at my local District Office?

No. USCIS will not be issuing interim EADs to TPS applicants and re-registrants at District Offices.

How may employers determine whether an EAD has been automatically extended for six months through November 2, 2007, and is therefore acceptable for completion of the Form I-9?

An EAD that has been automatically extended for six months by this Notice through November 2, 2007, will actually contain an expiration date of May 2, 2007, and must be a Form I-766 bearing the notation “A-12” or “C-19” on the face of the card under “Category.” New EADs or extension stickers showing the November 2, 2007, expiration date of the six-month automatic extension will not be issued. Employers should not request proof of Sudanese citizenship.

Employers should accept an EAD as a valid “List A” document and not ask for additional I-9 documentation if presented with an EAD that has been extended pursuant to this Federal Register Notice, and the EAD reasonably appears on its face to be genuine and to relate to the employee. This does not affect the right of an applicant for employment or an employee to present any legally acceptable document as proof of identity and eligibility for employment.

Note to Employers: Employers are reminded that the laws requiring employment eligibility verification and prohibiting unfair immigration-related employment practices remain in full force. This Notice does not supersede or in any way limit applicable employment verification rules and policy guidance, including those setting forth re-verification requirements. See 8 CFR 274a.2(b)(1)(vii). For questions, employers may call the USCIS Office of Business Liaison Employer Hotline at 1-800-357-2099. Also, employers may call the U.S. Department of Justice Office of Special Counsel for Immigration Related Unfair Employment Practices (OSC) Employer Hotline at 1-800-255-8155 or 1-800-362-2735 (TDD). Employees or applicants may call the OSC Employee Hotline at 1-800-255-7688 or 1-800-237-2515 (TDD) for information regarding the automatic extension. Additional information is available on the OSC Web site at http://www.usdoj.gov/crt/osc/index.html.

How may employers determine an employee's eligibility for employment once the automatic extension has expired on November 2, 2007?

Eligible TPS aliens will possess an EAD with an expiration date of November 2, 2008. The EAD will be a Form I-766 bearing the notation “A-12” or “C-19” on the face of the card under “Category,” and should be accepted for the purposes of verifying identity and employment authorization.

What documents may a qualified individual show to his or her employer as proof of employment authorization and identity when completing Form I-9, Employment Eligibility Verification?

During the first six months of this extension, qualified individuals who have received a six-month automatic extension of their EADs by virtue of this Federal Register Notice may present their TPS-based EAD to their employer, as described above, as proof of identity and employment authorization through November 2, 2007. To minimize confusion over this extension at the time of hire or re-verification, qualified individuals may also present a copy of this Federal Register Notice regarding the automatic extension of employment authorization documentation through November 2, 2007.

After the first six months of this extension, and continuing until the end of the extension period, November 2, 2008, a qualified individual may present their new EAD valid through November 2, 2008.

In the alternative, any legally acceptable document or combination of documents listed in List A, List B, or List C of the Form I-9 may be presented as proof of identity and employment eligibility.

[FR Doc. E7-4097 Filed 3-7-07; 8:45 am]

BILLING CODE 4410-10-P